DEPARTMENT OF THE INTERIOR

Bureau of Land Management

[17XL1109AF LLUT03000 L16100000.PH0000 241A]

Notice of Grand Staircase-Escalante National Monument Advisory Committee Meeting

AGENCY: Bureau of Land Management, Interior.

ACTION: Notice.

SUMMARY: In accordance with the Federal Land Policy and Management Act (FLPMA) and the Federal Advisory Committee Act of 1972 (FACA), the Department of the Interior, Bureau of Land Management (BLM), Grand Staircase-Escalante National Monument Advisory Committee (GSENMAC) will meet as indicated below.

DATES: The GSENM-MAC will meet Thursday, February 2 (10 a.m.-6 p.m.) and Friday, February 3, 2017, (8:00 a.m.-1:00 p.m.) in Kanab, Utah.

ADDRESSES: The Committee will meet at the Bureau of Land Management Administrative Headquarters, located at 669 S. Highway 89A, Kanab, Utah.

FOR FURTHER INFORMATION CONTACT: Larry Crutchfield, Public Affairs Officer, Grand Staircase-Escalante National Monument, Bureau of Land Management, 669 South Highway 89A, Kanab, Utah, 84741; phone (435) 644-1209.

SUPPLEMENTARY INFORMATION: The 15-member GSENM-MAC was appointed by the Secretary of Interior on January 23, 2016, pursuant to the Monument Management Plan, the Federal Land Policy and Management Act of 1976 (FLPMA), and the Federal Advisory Committee Act of 1972 (FACA). As specified the Committee charter, the GSENM-MAC may be requested to: (1) Gather and analyze information, conduct studies and field examinations, seek public input or ascertain facts to develop recommendations concerning the use and management of the Monument; (2) review programmatic documents including the annual Monument Manager's Reports, and Monument Science Plans to provide recommendations on the achievement of the Management Plan objectives; (3) Compile monitoring data and assess and advise the DFO of the extent to which the Plan objectives are being met; (4) Make recommendations on Monument protocols and applicable planning projects to achieve the overall objectives are being met; (5) Review appropriate research proposals and make recommendations on project necessity and validity; (6) Make recommendations regarding allocation of research funds through review of research and project proposals as well as needs identified through the evaluation process; (7) Consult and make recommendations on issues such as protocols for specific projects, e.g., vegetation restoration methods or standards for excavation and curation of artifacts and objects; and/or (8) Prepare an annual report summarizing the Committee's activities and accomplishments of the past year, and make recommendations for future needs and activities.

Topics to be discussed by the GSENM-MAC during this meeting include the ongoing Livestock Grazing Management Plan Amendment and Associated Environmental Impact Statement (LGMPA/AEIS); the Skutumpah Terrace Greater Sage-Grouse Habitat Restoration Project; GSENM division briefs, a tour of the GSENM Paleontology Lab and off-site tour of dinosaur track site; future meeting dates and other matters as may reasonably come before the GSENMAC.

The entire meeting is open to the public. Members of the public are welcome to address the Committee at 5:00 p.m., local time, on Feb. 2, 2017; and at 12:00 p.m., local time, on Feb. 3, 2017. Depending on the number of persons wishing to speak, a time limit could be established. Interested persons may make oral statements to the GSENM-MAC during this time or written statements may be submitted for the GSENM-MAC's consideration. Written statements can be sent to: Grand Staircase-Escalante National Monument, Attn.: Larry Crutchfield, 669 South Highway 89A, Kanab, Utah, 84741. Information to be distributed to the GSENM-MAC is requested 10 days prior to the start of the GSENM-MAC meeting.

All meetings are open to the public; however, transportation, lodging, and meals are the responsibility of the participating public.

Gary Torres,
Acting State Director.

[FR Doc. 2017-00657 Filed 1-12-17; 8:45 am]

BILLING CODE 4310-DQ-P